DEPARTMENT OF TRANSPORTATION

Federal Aviation Administration

14 CFR Part 71

Docket No. FAA-2015-0842; Airspace Docket No. 15-ACE-2

Amendment of Class E Airspace for the Following Missouri Towns: Chillicothe, MO; Cuba, MO; Farmington, MO; Lamar, MO; Mountain View, MO; Nevada, MO; and Poplar Bluff, MO

AGENCY: Federal Aviation Administration (FAA), DOT.

ACTION: Final rule, correction.

SUMMARY: This action corrects an error in a final rule published in the Federal Register of October 19, 2015, by amending the magnetic bearing to a true bearing in the Class E surface area airspace description for Farmington Regional Airport, Farmington, MO.

DATES: Effective 0901 UTC, December 10, 2015. The Director of the Federal Register approves this incorporation by reference action under title 1, Code of Federal Regulations, part 51, subject to the annual revision of FAA Order 7400.9 and publication of conforming amendments.

FOR FURTHER INFORMATION CONTACT: Jim Pharmakis, Central Service Center, Operations Support Group, Federal Aviation Administration, Southwest Region, 10101 Hillwood Parkway, Fort Worth, TX 76177; telephone: 817-222-5855.

SUPPLEMENTARY INFORMATION:

History

The FAA published a final rule in the Federal Register amending Class E surface area airspace at multiple airports in Missouri, including Farmington Regional Airport, Farmington, MO (80 FR 63085 October 19, 2015). Subsequent to publication the FAA identified that a magnetic bearing was used to describe parameters of the Class E surface area airspace for Farmington Regional Airport, Farmington, MO. This action replaces the magnetic bearing with a true bearing.

Correction to Final Rule

Accordingly, pursuant to the authority delegated to me, in the Federal Register of October 19, 2015 (80 FR 63085) FR Doc. 2015-26273, the bearing in the regulatory text on page 63086, column 3, line 9, is corrected as follows:

§ 71.1 [Amended]

ACE MO E2 Farmington, MO (Corrected)

Remove “202° bearing” and add in its place “204° bearing”

Issued in Fort Worth, Texas, on October 26, 2015.
Walter Tweedy,
Manager, Operations Support Group, ATO Central Service Center.

[FR Doc. 2015-28122 Filed 11-4-15; 8:45 am]

BILLING CODE 4910-13-P